FEDERAL ELECTION COMMISSION

Sunshine Act Meetings

AGENCY: Federal Election Commission.

DATE AND TIME: Thursday, March 31, 2016 at 10:00 a.m.

PLACE: 999 E Street NW., Washington, DC (Ninth Floor).

STATUS: This meeting will be open to the public.

ITEMS TO BE DISCUSSED:

Correction and Approval of Minutes for February 11, 2016

Correction and Approval of Minutes for February 25, 2016

Draft Advisory Opinion 2016-01: Ethiq, Inc.

Draft Final Rule and Explanation and Justification for Technical Amendments to 2015 CFR

Proposed Modifications to Program for Requesting Consideration of Legal Questions by the Commission

Proposed Statement of Policy Regarding the Public Disclosure of Closed Enforcement Documents

Motion to Open a Rulemaking to Assist Those Accepting Corporate Contributions or Making Corporate Expenditures in Complying with Existing Campaign Finance Law

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2016-07120 Filed 3-25-16; 11:15 am]

BILLING CODE 6715-01-P